SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1, 2011, through May 31, 2011.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f)

1. Pennsylvania General Energy Company, LLC, Pad ID: COP Tract 293 Pad F, ABR-201105001, Cummings Township, Lycoming County, Pa.; Consumptive Use of up to 3.000 mgd; Approval Date: May 6, 2011.

2. Cabot Oil & Gas Corporation, Pad ID: Augustine P1, ABR-201105002, Springville Township, Susquehanna County, Pa.; Consumptive Use of up to 3.575 mgd; Approval Date: May 9, 2011.

3. Chesapeake Appalachia, LLC, Pad ID: Ramblinrose, ABR-201105003, Tuscarora Township, Bradford County, Pa.; Consumptive Use of up to 7.500 mgd; Approval Date: May 10, 2011.

4. Chesapeake Appalachia, LLC, Pad ID: Hess, ABR-201105004, Rome Township, Bradford County, Pa.; Consumptive Use of up to 7.500 mgd; Approval Date: May 10, 2011.

5. Chief Oil & Gas LLC, Pad ID: Jerauld Drilling Pad #1, ABR-201105005, Lenox Township, Susquehanna County, Pa.; Consumptive Use of up to 2.000 mgd; Approval Date: May 13, 2011.

6. Anadarko E&P Company LP, Pad ID: COP Tract 728 Pad H, ABR-201105006, Watson Township, Lycoming County, Pa.; Consumptive Use of up to 4.000 mgd; Approval Date: May 13, 2011.

7. Anadarko E&P Company LP, Pad ID: COP Tract 728 Pad G, ABR-201105007, Watson Township, Lycoming County, Pa.; Consumptive Use of up to 4.000 mgd; Approval Date: May 13, 2011.

8. EQT Production Company, Pad ID: Stoney Brook, ABR-201105008, Jay Township, Elk County, Pa.; Consumptive Use of up to 3.000 mgd; Approval Date: May 17, 2011.

9. Seneca Resources Corporation, Pad ID: DCNR 100 PAD E, ABR-201105009, McIntyre Township, Lycoming County, Pa.; Consumptive Use of up to 4.000 mgd; Approval Date: May 18, 2011.

10. Williams Production Appalachia LLC, Pad ID: Nayavich Well Pad, ABR-201105010, Sugarloaf Township, Columbia County, Pa.; Consumptive Use of up to 4.000 mgd; Approval Date: May 18, 2011.

11. Chesapeake Appalachia, LLC, Pad ID: LRJ, ABR-201105011, Rush Township, Susquehanna County, Pa.; Consumptive Use of up to 7.500 mgd; Approval Date: May 19, 2011.

12. Talisman Energy USA Inc., Pad ID: 03 081 Bergeys, ABR-201105012, Wells Township, Bradford County, Pa.; Consumptive Use of up to 6.000 mgd; Approval Date: May 19, 2011.

13. Anadarko E&P Company LP, Pad ID: Lycoming H&FC Pad E, ABR-201105013, Cogan House Township, Lycoming County, Pa.; Consumptive Use of up to 4.000 mgd; Approval Date: May 20, 2011.

14. Anadarko E&P Company LP, Pad ID: Larrys Creek F&G Pad C, ABR-201105014, Cummings Township, Lycoming County, Pa.; Consumptive Use of up to 4.000 mgd; Approval Date: May 20, 2011.

15. Cabot Oil & Gas Corporation, Pad ID: LopatofskyJ P1, ABR-201105015, Springville Township, Susquehanna County, Pa.; Consumptive Use of up to 3.575 mgd; Approval Date: May 23, 2011.

16. SWEPI LP, Pad ID: Biegalski 592, ABR-201105016, Richmond Township, Tioga County, Pa.; Consumptive Use of up to 4.000 mgd; Approval Date: May 24, 2011.

17. SWEPI LP, Pad ID: Sanchis 1129, ABR-201105017, Farmington Township, Tioga County, Pa.; Consumptive Use of up to 4.000 mgd; Approval Date: May 24, 2011.

18. SWEPI LP, Pad ID: Showalter 822, ABR-201105018, Chatham Township, Tioga County, Pa.; Consumptive Use of up to 4.000 mgd; Approval Date: May 24, 2011.

19. Great Plains Operating, LLC dba Great Mountain Operating, Pad ID: Sturgis-B, ABR-201105019, Gallagher Township, Clinton County, Pa.; Consumptive Use of up to 6.000 mgd; Approval Date: May 25, 2011.

20. Williams Production Appalachia LLC, Pad ID: Sadecki Well Pad, ABR-201105020, Liberty Township, Susquehanna County, Pa.; Consumptive Use of up to 4.000 mgd; Approval Date: May 26, 2011.

21. XTO Energy Incorporated, Pad ID: Glidewell Unit A, ABR-201105021, Pine Township, Columbia County, Pa.; Consumptive Use of up to 4.000 mgd; Approval Date: May 26, 2011.

22. Chesapeake Appalachia, LLC, Pad ID: Packard, ABR-201105022, Sheshequin Township, Bradford County, Pa.; Consumptive Use of up to 7.500 mgd; Approval Date: May 26, 2011.

23. Chesapeake Appalachia, LLC, Pad ID: Lomison Inc., ABR-201105023, Burlington Township, Bradford County, Pa.; Consumptive Use of up to 7.500 mgd; Approval Date: May 26, 2011.

24. EQT Production Co., Pad ID: Phoenix P, ABR-201105024, Duncan Township, Tioga County, Pa.; Consumptive Use of up to 3.000 mgd; Approval Date: May 31, 2011.

25. SM Energy Company, Pad ID: Young Pad #4, ABR-201105025, Portage Township, Potter County, Pa.; Consumptive Use of up to 6.000 mgd: Approval Date: May 31, 2011.

26. Williams Production Appalachia LLC, Pad ID: Mitchell Well Pad, ABR-201105026, Franklin Township, Susquehanna County, Pa.; Consumptive Use of up to 4.000 mgd; Approval Date: May 31, 2011.

27. Chesapeake Appalachia, LLC, Pad ID: Karp, ABR-201105027, Lemon Township, Wyoming County, Pa.; Consumptive Use of up to 7.500 mgd; Approval Date: May 31, 2011.

Authority: Pub. L. 91-575, 84 Stat. 1509 et seq., 18 CFR parts 806, 807, and 808.

Dated: July 7, 2011.
Stephanie L. Richardson,
Secretary to the Commission.

[FR Doc. 2011-17925 Filed 7-15-11; 8:45 am]

BILLING CODE 7040-01-P